DEPARTMENT OF THE INTERIOR

Fish and Wildlife Service

50 CFR Part 10, 13, 17, and 23

RIN 1018-AD87

Revision of Regulations for the Convention on International Trade in Endangered Species of Wild Fauna and Flora (CITES)

Correction

In proposed rule document 00-9980 beginning on page 26664 in the issue of Monday, May 8, 2000, make the following corrections:

1. On page 26664, in the first column, in the ADDRESSES section, in the 10th line, the E-mail address “r9oma-cites@fws.gov” should read “r9oma_cites@fws.gov”.

2. On page 26684, in the first table, in the fifth column under the heading “Totals”, “863” should be under the heading “Total annual burden hours”.

§23.7 [Corrected]

3. On page 26689, in §23.7(a), in the table, in the second column, in the ninth line, the E-mail address “r9IA OMA@fws.gov” should read “r9IA_OMA@fws.gov”.

§23.18 [Corrected]

4. On page 26695, in §23.18(c), in the table, in the second column, in the first entry, remove the second “is”.

§23.22 [Corrected]

5. On page 26700, in §23.22(b)(1)(i), in the table, in the second column, in the first entry, remove the second “Export”.

[FR Doc. C0-9980 Filed 6-28-00; 8:45 am]

BILLING CODE 1505-01-D

DEPARTMENT OF THE INTERIOR

Bureau of Land Management

[NV-930-1430-01; N-56474]

Notice of Realty Action; Nevada

Correction

In notice document 00-15610 beginning on page 38572 in the issue of Wednesday, June 21, 2000, make the following correction:

On page 38572, in the second column, in the SUMMARY section, in the second line from the end of the section, “Section 2, Lots 1-2, S½, S½NE¼.” should read “Section 2, Lots 1-2, S½NE¼.”

[FR Doc. C0-15610 Filed 6-28-00; 8:45 am]

BILLING CODE 1505-01-D

DEPARTMENT OF TRANSPORTATION

Federal Aviation Administration

14 CFR Part 71

[Airspace Docket No. 2000-ASW-12]

Revision of Class E Airspace; Carrizo Springs, Glass Ranch TX

Correction

In rule document 00-9838 beginning on page 21301, in the issue of Friday, April 21, 2000, make the following correction:

§ 71.1 [Corrected]

On page 21302, in the first column, §71.1, under the heading ASW TX E5 Carrizo Springs, Glass Ranch Airport, TX [Revised], in the second line, “(Lat. 28° 15′46′′ N.” should read “ (Lat. 28° 27′ 01′′ N. ”.

[FR Doc. C0-9838 Filed 6-28-00; 8:45 am]

BILLING CODE 1505-01-D